NUCLEAR REGULATORY COMMISSION

Advisory Committee on Nuclear Waste; Notice of Meeting

The Advisory Committee on Nuclear Waste (ACNW) will hold its 162nd meeting on August 2-4, 2005, Room T-2B3, Two White Flint North, 11545 Rockville Pike, Rockville, Maryland.

The schedule for this meeting is as follows:

Tuesday, August 2, 2005

The Committee will conduct a 2-day working group meeting on Waste Determinations.

8:30 a.m.-11:25 a.m. Session 1: (Open)—This session will provide a background for waste determinations. The ACNW Moderator will discuss the purpose of the Working Group meeting and provide an overview of the meeting sessions. Department of Energy (DOE) staff will provide an overview of DOE's current and planned management of tank waste at four tank sites, including waste handling practices, waste streams likely to require waste determinations and their characteristics. NRC staff will provide an overview of NRC's involvement in waste determination evaluations to date, a summary of new waste determination provisions in the National Defense Authorization Act (NDAA) of 2005, and anticipated waste determination activities by the NRC.

11:25 a.m.-4:15 p.m. Session 2: (Open)—Invited experts will address state-of-the-art and R&D technology for waste retrieval including removal of common target radionuclides, and technology for characterizing tank heels. In addition, a historical perspective on the definition of “highly radioactive waste” in the regulations and in practice will be provided. There will also be a roundtable discussion of Session 2 topics.

4:15 p.m.-5 p.m. Session 3: (Open)—Invited experts will discuss the status of technology for using cementitious materials to stabilize wastes.

Wednesday, August 3, 2005

8:30 a.m.-11:35 a.m. Session 3, continued: (Open)—Invited experts will address the status and prospects of predicting durability of grouts; performance assessment perspectives on waste disposal; and practical approaches to make decisions on waste determinations. There will also be a roundtable discussion of Session 3 topics.

11:35 a.m.-4:40 p.m. Session 4: (Open)—Invited experts will address status of technology for environmental monitoring of on-site waste disposal, monitoring of engineered barriers performance, and non-destructive monitoring for cementitious waste forms. There will also be a roundtable discussion of Session 4 topics, as well as topics from other sessions as they relate to the waste determination provisions in the NDAA.

4:40 p.m.-5 p.m.: (Open)—The ACNW Committee members will discuss the main thoughts and findings of the Working Group meeting, and a potential letter/report to the Commission.

Thursday, August 4, 2005

10:15 a.m.-10:20 a.m.: Opening Statement (Open)—The ACNW Chairman will make opening remarks regarding the conduct of today's sessions.

10:20 a.m.-11:30 a.m.: Discussion of Current Letters/Reports (Open)—The Committee will discuss prepared draft letters and reports on April 2005 Center for Nuclear Waste Regulatory Analyses Program Review, NRC Office of Nuclear Regulatory Research Generic Waste-Related Research, and Risk-Informing Nonreactor Activities.

12:45 p.m.-3:45 p.m.: Status of Repository Design Issues (Open)—The Committee will hear a briefing by the NRC staff on issues related to the design of a geologic repository at Yucca Mountain, Nevada. The general areas to be addressed are: “NRC Staff Views on the Sufficiency of Current U.S. Department of Energy (DOE) Level of Design Detail;” “Recent NRC Staff Visits to Spent Nuclear Fuel Handling Facilities in France (Cogema), and the United States (Idaho and Washington);” and “Status of Development of NRC's Pre-Closure Safety Assessment Tool.”

4 p.m.-4:45 p.m.: Past Waste Confidence Decisions (Open)—The Committee will hear a briefing by the NRC staff on waste confidence decisions (findings) made by the Commission prior to 1999.

4:45 p.m.-5:15 p.m.: ACNW Low-Level Waste White Paper: Draft 3 (Open)—The Committee will comment on the third draft of the white paper on low-level waste.

5:15 p.m.-5:30 p.m.: Miscellaneous (Open)—The Committee will discuss matters related to the conduct of ACNW activities, and specific issues that were not completed during previous meetings, as time and availability of information permit. Discussions may include future Committee meetings.

Procedures for the conduct of and participation in ACNW meetings were published in the Federal Register on October 18, 2004 (69 FR 61416). In accordance with these procedures, oral or written statements may be presented by members of the public. Electronic recordings will be permitted only during those portions of the meeting that are open to the public. Persons desiring to make oral statements should notify Ms. Sharon A. Steele, (Telephone 301-415-6805), between 7:30 a.m. and 4 p.m. ET, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Ms. Steele as to their particular needs.

Further information regarding topics to be discussed, whether the meeting has been canceled or rescheduled, the Chairman's ruling on requests for the opportunity to present oral statements and the time allotted, therefore, can be obtained by contacting Ms. Steele.

ACNW meeting agenda, meeting transcripts, and letter reports are available through the NRC Public Document Room (PDR) at pdr@nrc.gov, or by calling the PDR at 1-800-397-4209, or from the Publicly Available Records System component of NRC's document system (ADAMS) which is accessible from the NRC Web site at http://www.nrc.gov/reading-rm/adams.html or http://www.nrc.gov/reading-rm/doc-collections/ (ACRS & ACNW Mtg schedules/agendas).

Video Teleconferencing service is available for observing open sessions of ACNW meetings. Those wishing to use this service for observing ACNW meetings should contact Mr. Theron Brown, ACNW Audiovisual Technician (301-415-8066), between 7:30 a.m. and 3:45 p.m. ET, at least 10 days before the meeting to ensure the availability of this service. Individuals or organizations requesting this service will be responsible for telephone line charges and for providing the equipment and facilities that they use to establish the video teleconferencing link. The availability of video teleconferencing services is not guaranteed.

Dated: July 14, 2005.
Andrew L. Bates,
Advisory Committee Management Officer.

[FR Doc. E5-3857 Filed 7-19-05; 8:45 am]

BILLING CODE 7590-01-P